DEPARTMENT OF DEFENSE

Department of the Army, U.S. Army Corps of Engineers

Notice of Intent To Prepare an Environmental Assessment and Conduct Public Scoping Meeting for the Crescent City Harbor Dredged Material Management Plan, City of Crescent and County of Del Norte, CA

AGENCY: Department of the Army, U.S. Army Corps of Engineers, DOD.

ACTION: Notice of intent.

SUMMARY: The purpose of this notice is to initiate the scoping process for the preparation of a Dredged Material Management Plan (DMMP) and Environmental Assessment for continued maintenance dredging at Crescent City Harbor. The goal of the plan will be to identify suitable sites for placement of dredged material to accommodate maintenance dredging over the next twenty years.

DATES: A public scoping meeting will be held on February 11, 2015 at 7:00 p.m. (PST). Submit comments concerning this notice on or before February 26, 2015.

ADDRESSES: The scoping meeting location is the Meeting Room at the Crescent City Harbor District Office, 101 Citizens Dock Road, Crescent City, California 95531. Mail written comments concerning this notice to: U.S. Army Corps of Engineers, San Francisco District, Project Management Division, ATTN: 1455 Market Street, San Francisco, CA 94103-1398. Comment letters should include the commenter's physical mailing address and the project title in the subject line.

FOR FURTHER INFORMATION CONTACT: Mark Wiechmann, U.S. Army Corps of Engineers, San Francisco District, Environmental Resources, 1455 Market Street, San Francisco CA 94103-1398, (415) 503-6846, mark.j.wiechmann@usace.army.mil.

SUPPLEMENTARY INFORMATION: In accordance with the National Environmental Policy Act (NEPA), the Corps intends to prepare a Dredged Material Management Plan (DMMP) and accompanying Environmental Assessment (EA). The primary Federal actions under consideration are dredging, dredged material placement, and transport of dredged material for the purpose of ocean placement and/or upland beneficial reuse. The Crescent City Harbor District is the Non-Federal Sponsor (NFS). The Draft DMMP is intended to be sufficient in scope to address the Federal, state and local requirements and environmental issues concerning the proposed activities and permit approvals.

Project Site and Background Information: Crescent City Harbor is located on the Northern California coast about 280 nautical miles north of San Francisco and about 17 miles south of the Oregon border. The harbor is located on the south edge of a broad marine terrace bordered on the south and west by the Pacific Ocean and on the north and east by densely forested coastal mountains. Crescent City Harbor is a shallow-draft critical harbor of refuge, supporting a U.S. Coast Guard search and rescue station, commercial and sport fishing, waterfront industry, and recreational boating.

The harbor's naturally crescent-shaped beach is bound by a 4,700-foot long rubble-mound outer breakwater to the west, a 2,400-foot long sand barrier to the east, and a 1,600-foot rubble-mound inner breakwater to the south. The harbor's opening faces south and is about 2,000 feet across.

There are currently three federally constructed and maintained navigation channels at Crescent City Harbor. The Inner Harbor Basin Channel extends for 2,200 feet along the inside and around the tip of the inner breakwater, where it connects to the Entrance Channel, a 200 foot wide channel that extends 2,200 feet to the outer breakwater. The Marina Access Channel is 140-210 feet wide and extends 1,200 feet from the Inner Harbor Basin Channel to the small boat basin.

The Entrance Channel has a project depth of 20 feet mean lower low water (MLLW) while the interior channels, Inner Harbor Basin and Marina Access, have a project depth of 15 feet MLLW.

Proposed Action(S): This study report will: (1) verify that continued federal maintenance is justified; and (2) present a viable 20-year plan for dredging and disposal of materials associated with Crescent City Harbors' continued operations and maintenance work.

Four previously used disposal sites: SF-1, Crescent City Harbor Dredge Ponds, Beach Nourishment at Whaler Island and Humboldt Ocean Disposal Site (HOODS); and four previously unused disposal sites: SFDODS, Chetco River Disposal Site (Chetco), an Offshore Berm area and a potential Crescent City Harbor Waterfront Development Plan site will be evaluated. Figure 1 displays the eight sites being considered.

Issues: Potentially significant issues associated with the project may include: aesthetics/visual impacts, air quality emissions, biological resource impacts, environmental justice, geologic impacts related to seismicity, hazards and hazardous materials, hydrology and water quality, noise, traffic and transportation, and cumulative impacts from past, present and reasonably foreseeable future projects.

Scoping Process: The U.S. Army Corps of Engineers is seeking participation and input of all interested federal, state, and local agencies, Native American groups, and other concerned private organizations or individuals on the scope of the draft DMMP and EA through this public notice. The purpose of the public scoping meeting is to solicit comments regarding the potential impacts, environmental issues, and alternative placement sites associated with the proposed action to be considered in the study report. The meeting place, date and time will be advertised in advance in local newspapers, and meeting announcement letters will be sent to interested parties. The final draft DMMP is expected to be available for public review and comment in the summer of 2015 and a public meeting will be held after its publication.

John C. Morrow,
Lieutenant Colonel, US Army, District Engineer.

[FR Doc. 2015-01030 Filed 1-22-15; 8:45 am]

BILLING CODE 3720-58-P